INTERNATIONAL TRADE COMMISSION

[Investigation No. 731-TA-894 (Third Review)]

Ammonium Nitrate From Ukraine; Termination of Five-Year Review

AGENCY: United States International Trade Commission.

ACTION: Notice.

SUMMARY: The Commission instituted the subject five-year review in May 2018 to determine whether revocation of the antidumping duty order on Ammonium Nitrate from Ukraine would be likely to lead to continuation or recurrence of material injury. On June 18, 2018, the Department of Commerce published notice that it was revoking the order effective June 12, 2018, because no domestic interested party filed a notice of intent to participate. Accordingly, the subject review is terminated.

DATES: June 29, 2018.

FOR FURTHER INFORMATION CONTACT: Lawrence Jones (202-205-3358), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to section 207.69 of the Commission's rules (19 CFR 207.69).

By order of the Commission.
Issued: July 6, 2018.
Jessica Mullan,
Attorney-Advisor.

[FR Doc. 2018-14883 Filed 7-11-18; 8:45 am]

BILLING CODE 7020-02-P